SOCIAL SECURITY ADMINISTRATION

[Docket No: SSA-2022-0012]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Comments: https://www.reginfo.gov/public/do/PRAMain. Submit your comments online referencing Docket ID Number [SSA-2022-0012].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0012].

The information collections below are pending at SSA. SSA will submit them to OMB within 60 days from the date of this notice. To be sure we consider your comments, we must receive them no later than May 9, 2022. Individuals can obtain copies of the collection instruments by writing to the above email address.

1. Certificate of Responsibility for Welfare and Care of Child Not in Applicant's Custody—20 CFR 404.330, 404.339-404.341 and 404.348-404.349—0960-0019. SSA uses Form SSA-781 to determine if non-custodial parents who file for spouse, mother's, father's, or surviving divorced mother's or father's benefits based on having a child in their care, meet the child-in-care requirements. The child-in-care provision requires claimants to have an entitled child under age 16 or disabled in their care. The respondents are applicants for spouse's; mother's; father's; or surviving divorced mother's or father's Social Security benefits.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-781 | 390 | 1 | 5 | 33 | * $27.07 | ** 21 | *** $4,602
* We based this figure on the average U.S. worker's hourly wages, as reported by Bureau of Labor Statistics data (https://www.bls.gov/oes/current/oes_nat.htm#00-0000).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

2. Child Relationship Statement—20 CFR 404.355 and 404.731—0960-0116. To help determine a child's entitlement to Social Security benefits, SSA uses criteria under Section 216(h)(3) of the Social Security Act (Act), deemed child provision. SSA may deem a child to an insured individual if: (1) The insured individual presents SSA with satisfactory evidence of parenthood, and was living with or contributing to the child's support at certain specified times; or (2) the insured individual (a) acknowledged the child in writing; (b) was court decreed as the child's parent; or (c) was court ordered to support the child. To obtain this information, SSA uses Form SSA-2519, Child Relationship Statement. The respondents are people with knowledge of the relationship between certain individuals filing for Social Security benefits and their alleged biological children.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-2519 | 4,981 | 1 | 15 | 1,245 | * $27.07 | ** 21 | *** $80,885
* We based this figure on the average U.S. worker's hourly wages, as reported by Bureau of Labor Statistics data (https://www.bls.gov/oes/current/oes_nat.htm#00-0000).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

3. Pre-1957 Military Service Federal Benefit Questionnaire—20 CFR 404.1301-404.1371—0960-0120. SSA may grant gratuitous military wage credits for active military or naval service (under certain conditions) during the period September 16, 1940 through December 31, 1956, if no other Federal agency (other than the Veterans Administration) credited the service for benefit eligibility or computation purposes. We use Form SSA-2512 to collect specific information about other Federal, military, or civilian benefits the wage earner may receive when the applicant indicates both pre-1957 military service and the receipt of a Federal benefit. SSA uses the data in the claims adjudication process to grant gratuitous military wage credits when applicable, and to solicit sufficient information to determine eligibility. Respondents are applicants for Social Security benefits on a record where the wage earner claims pre-1957 military service.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-2512 | 5,000 | 1 | 10 | 833 | * $27.07 | ** 24 | *** $76,689
* We based this figure on the average U.S. worker's hourly wages, as reported by Bureau of Labor Statistics data (https://www.bls.gov/oes/current/oes_nat.htm#00-0000).
** We based this figure on the average FY 2022 wait times for field offices, based on SSA's current management information data.
*** This figure does not represent actual costs that SSA is imposing on recipients of Social Security payments to complete this application; rather, these are theoretical opportunity costs for the additional time respondents will spend to complete the application. There is no actual charge to respondents to complete the application.

4. Authorization for the Social Security Administration to Obtain Account Records from a Financial Institution—20 CFR 416.200, 416.203, 416.207, 404.508, and 416.553—0960-0293. SSA collects and verifies financial information from individuals applying for Title II and Title XVI waiver determinations, as well as those who apply for, or currently receive (in the case of redetermination), Supplemental Security Income (SSI) payments. We require the financial information from these applicants to: (1) Determine the eligibility of the applicant or recipient for SSI benefits; or (2) determine if a request to waive a Social Security overpayment defeats the purpose of the Act. If the Title II and Title XVI waiver applicants, or the SSI claimants provide incomplete, unavailable, or seemingly altered records, SSA contacts their financial institutions to verify the existence, ownership, and value of accounts owned. Financial institutions need individuals to sign Form SSA-4641, or work with SSA staff to complete one of SSA's electronic applications, e4641 or the Access to Financial Institutions (AFI) screens, to authorize the individual's financial institution to disclose records to SSA. The respondents are Title II and Title XVI recipients applying for waivers, or SSI applicants, recipients, and their deemors to determine SSI eligibility.

Type of Request: Revision of an OMB-approved information collection.

Modality of completion | Number of respondents | Frequency of response | Average burden per response (minutes) | Estimated total annual burden (hours) | Average theoretical hourly cost amount (dollars) *** | Average wait time in field office (minutes) **** | Total annual opportunity cost (dollars) ******
Individuals (Paper and Internet) * | ** 1,565,000 | 1 | 4 | 104,333 | *** $19.01 | **** 24 | ***** $13,883,630
Financial Institutions (Paper SSA-4641) | 90,000 | 1 | 6 | 9,000 | *** $19.01 |  | ***** $171,090
Financial Institutions (Internet e4641 or AFI) | 14,575,000 | 1 | 2 | 485,833 | *** $19.01 |  | ***** 9,235,685
Totals | 16,230,000 |  |  | 599,166 |  |  | ***** 23,290,405
* This includes individuals completing the form to provide their authorization for purposes of determining SSI eligibility as well as individuals providing their authorization for purposes of a waiver determination.
** This likely is an overestimate because individuals providing their authorization for purposes of a waiver determination may, alternatively, provide their authorization using another form, the SSA-632, but we do not have readily-available MI on how many individuals use that form instead of the SSA-4641.
*** We based this figure by averaging both the average DI payments based on SSA's current FY 2021 data (https://www.ssa.gov/legislation/2021FactSheet.pdf), and the average U.S. worker's hourly wages, as reported by Bureau of Labor Statistics data (https://www.bls.gov/oes/current/oes_nat.htm).
**** We based this figure on the average FY 2022 wait times for field offices, based on SSA's current management information data.
***** This figure does not represent actual costs that SSA is imposing on recipients of Social Security payments to complete this application; rather, these are theoretical opportunity costs for the additional time respondents will spend to complete the application. There is no actual charge to respondents to complete the application.

5. Vocational Rehabilitation Provider Claim—20 CFR 404.2101(a), 404.2108(b), 404.2117(c)(1)&(2), 404.2121(a), 416.2208(b), 416.2217(c)(1)&(2), 416.2201(a), and 416.2221(a)—0960-0310. State vocational rehabilitation (VR) agencies submit Form SSA-199 to SSA to obtain reimbursement of costs incurred for providing VR services. SSA requires state VR agencies to submit reimbursement claims for the following categories: (1) Claiming reimbursement for VR services provided; (2) certifying adherence to cost containment policies and procedures; and (3) preparing causality statements. The respondents provide the information requested through a web-based Secure Ticket Portal, in lieu of submitting forms. This Portal allows VRs to retrieve reports, and enter and submit information electronically, minimizing the use of the paper form to SSA for consideration and approval of the claim for reimbursement of costs incurred for SSA beneficiaries. SSA uses the information on the SSA-199, along with the written documentation, to determine whether, and how much, to pay State VR agencies under SSA's VR program. Respondents are State VR agencies offering vocational and employment services to Social Security and SSI recipients.

Type of Request: Revision of an OMB-approved information collection.

Modality of completion | Number of respondents | Frequency of response | Number of responses | Average burden per response (minutes) | Estimated total annual burden (hours) | Average theoretical hourly cost amount (dollars) * | Total annual opportunity cost (dollars) **
a. Claiming Reimbursement on SSA-199—20 CFR 404.2108(b) & 416.2208(b) | 77 | 22,300 | 1,717,100 | 23 | 658,222 | * $15.50 | ** $10,202,441
b. Certifying Adherence to Cost Containment Policy and Procedures—20 CFR 404.2117(c)(1)&(2), 416.2217(c)(1)&(2) & 34 CFR 361 | 77 | 77 | 5,929 | 60 | 5,929 | * 15.50 | ** 91,900
c. Preparing Causality Statements—20 CFR 404.2121(a), 404.2101(a), 416.2201(a), & 416.2221(a) | 77 | 77 | 5,929 | 100 | 9,882 | * 15.50 | ** 153,171
Totals | 231 |  |  |  | 674,033 |  | ** 10,447,512
* We based this figure on the average Healthcare Support Occupations, as reported by Bureau of Labor Statistics data (https://www.bls.gov/oes/current/oes310000.htm).
** This figure does not represent actual costs that SSA is imposing on recipients of Social Security payments to complete this application; rather, these are theoretical opportunity costs for the additional time respondents will spend to complete the application. There is no actual charge to respondents to complete the application.

6. Request for Change in Time/Place of Disability Hearing—20 CFR 404.914(c)(2) and 416.1414(c)(2)—0960-0348. At the request of the claimants or their representatives, SSA schedules evidentiary hearings at the reconsideration level for claimants of Title II benefits or Title XVI payments when we deny their claims for disability. When claimants or their representatives find they are unable to attend the scheduled hearing, they complete Form SSA-769 to request a change in time or place of the hearing. SSA uses the information as a basis for granting or denying requests for changes and for rescheduling disability hearings. Respondents are claimants or their representatives who wish to request a change in the time or place of their hearing.

Type of Request: Revision of an OMB-approved information collection.

Modality of completion | Number of respondents | Frequency of response | Average burden per response (minutes) | Estimated total annual burden (hours) | Average theoretical hourly cost amount (dollars) * | Total annual opportunity cost (dollars) **
SSA-769 | 41,440 | 1 | 8 | 5,525 | * $19.01 | ** $105,030
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

7. Notice Regarding Substitution of Party Upon Death of Claimant—Reconsideration of Disability Cessation—20 CFR 404.907-404.921 and 416.1407-416.1421—0960-0351. When a claimant dies before we make a determination on that person's request for reconsideration of a disability cessation, SSA seeks a qualified substitute party to pursue the appeal. If SSA locates a qualified substitute party, the agency uses Form SSA-770 to collect information about whether to pursue or withdraw the reconsideration request. We use this information as the basis for the decision to continue or discontinue with the appeals process. Respondents are substitute applicants who are pursuing a reconsideration request for a deceased claimant.

Type of Request: Revision of an OMB-approved information collection.

Modality of completion | Number of respondents | Frequency of response | Average burden per response (minutes) | Estimated total annual burden (hours) | Average theoretical hourly cost amount (dollars) * | Total annual opportunity cost (dollars) **
SSA-770 | 384 | 1 | 5 | 32 | * $27.07 | ** $866
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

8. Appointment of Representative—20 CFR 404.1707, 404.1720, 408.1101, 416.1507, and 416.1520—0960-0527. Individuals claiming rights or benefits under the Act must notify SSA in writing when they appoint an individual to represent them in dealing with SSA. In addition, as part of SSA's regulations, SSA requires representatives who are not attorneys to sign the written notice of appointment. SSA does not require attorneys acting as representatives to sign the notice of appointment. Respondents can use Form SSA-1696, or the submittable electronic version, e1696, to appoint a representative to handle their claim before SSA and name their principal representative, and their selected representative(s) can use the SSA-1696 or e1696 to indicate whether they will charge a fee, and to show their eligibility for direct fee payment. In addition, representatives also use the SSA-1696 or e1696 to inform SSA of their disbarment; suspension from a court or bar in which they previously admitted to practice; or their disqualification from participating in or appearing before a Federal program or agency. SSA uses the information on the SSA-1696 or e1696 to document the appointment of the representative, and we recognize the individual named in the notice of appointment the claimant signed and filed at an SSA office, or through our submittable portal, as the claimant's representative. We also use this form to collect the representative's business affiliation and employment identification number. In addition, respondents use the SSA-1696-SUP1 to revoke their appointment of a representative, and representatives use the SSA-1696-SUP2 to withdraw their acceptance of the appointment. SSA uses the information on the SSA-1696-SUP1 and SSA-1696-SUP2 to document the revocation and withdrawal of a representative. Respondents are applicants for, or recipients of, Social Security disability benefits (SSDI); SSI payments; or anyone pursuing a benefit or invoking a right under SSA programs, who are notifying SSA they have appointed someone to represent them in their dealings with SSA; any non-attorney representatives who need to sign the form; as well as individuals revoking their appointment of representative, and their representatives' withdrawal of their acceptance of an appointment.

Type of Request: Revision of an OMB-approved information collection.

Modality of completion | Number of respondents | Frequency of response | Average burden per response (minutes) | Estimated total annual burden (hours) | Average theoretical hourly cost amount (dollars) * | Total annual opportunity cost (dollars) **
SSA-1696; e1696 | 1,100,000 | 1 | 12 | 220,000 | *$73.86 | **$16,249,200
SSA-1696-SUP1 | 5,505 | 1 | 5 | 459 | *10.95 | **5,026
SSA-1696-SUP2 | 254,825 | 1 | 5 | 21,235 | *73.86 | **1,568,417
Totals | 1,360,330 |  |  | 241,694 |  | **17,822,643
* We based these figures on average Legal Service hourly salary, as reported by Bureau of Labor Statistics data (https://www.bls.gov/oes/current/oes231011.htm) and the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

9. Work Incentives Planning and Assistance Program—0960-0629. As part of SSA's strategy to assist SSDI beneficiaries and SSI recipients who wish to return to work and achieve self-sufficiency, SSA established the Work Incentives Planning and Assistance (WIPA) program. This community based, work incentive, planning and assistance project collects identifying claimant information via project sites and community work incentives coordinators (CWIC). SSA uses this information to ensure proper management of the project, with particular emphasis on administration, budgeting, and training. SSA uses Form SSA-4565 (WIPA Intake Information) to collect data from SSDI beneficiaries and SSI recipients on background employment, training, benefits, and work incentives. CWIC use Form SSA-4566 (WIPA Notes) to create a case note to record actions taken for a beneficiary. CWIC will use the WIPA Star System which is a new management and reporting system that allows the CWIC to: (1) Provide SSA with information provided on Form SSA-4565, and additional information on beneficiaries served under the WIPA program; (2) to manage their case notes for beneficiaries; and (3) to collect additional information not collected on Forms SSA-4565 and SSA-4566 which allows SSA to monitor WIPA grantee's performance and progress. The respondents are SSDI beneficiaries, SSI recipients, community project sites, and community work incentives coordinators.

Type of Request: Revision of an OMB-approved information collection.

Modality of completion | Number of respondents | Frequency of response | Average burden per response (minutes) | Annual burden (hours) | Hourly cost amount (dollars) * | Opportunity cost (dollars) **
SSA-4565 | 32,000 | 1 | 25 | 13,333 | *$15.67 | **$208,928
SSA-4566 | 360 | 890 | 2 | 10,680 | *15.67 | **167,356
WIPA STAR System | 720 | 1,869 | 20 | 448,560 | *15.67 | **7,028,935
Totals | 33,080 | 2,760 |  | 472,573 |  | **7,405,219
* We based this figure on the average DI payments based on SSA's current FY 2021 data (https://www.ssa.gov/legislation/2021FactSheet.pdf); and the average Office and Administrative Support hourly wages, as reported by Bureau of Labor Statistics data (https://www.bls.gov/oes/current/oes430000.htm).
** This figure does not represent actual costs that SSA is imposing on recipients of Social Security payments to complete this application; rather, these are theoretical opportunity costs for the additional time respondents will spend to complete the application. There is no actual charge to respondents to complete the application.

10. Internet Direct Deposit Application—31 CFR 210—0960-0634. SSA requires all applicants and recipients of Social Security Old Age, Survivors, and Disability Insurance (OASDI) benefits, or SSI payments to receive these benefits and payments via direct deposit, at a financial institution. SSA receives Direct Deposit/Electronic Funds Transfer (DD/EFT) enrollment information from OASDI beneficiaries and SSI recipients to facilitate DD/EFT of their funds, with their chosen financial institution. We also use this information when an enrolled individual wishes to change their DD/EFT information. For the convenience of the respondents, we collect this information through several modalities, including an internet application, in-office or telephone interviews, and our automated telephone system. In addition to using the direct deposit information to enable DD/EFT of funds to the recipient's chosen financial institution, we also use the information through our Direct Deposit Fraud Indicator, to ensure the correct recipient receives the funds. Respondents are OASDI beneficiaries and SSI recipients requesting that we enroll them in the Direct Deposit program, or change their direct deposit banking information.

Type of Request: Revision of an OMB-approved information collection.

Modality of completion | Number of respondents | Frequency of response | Average burden per response (minutes) | Estimated total annual burden (hours) | Average theoretical hourly cost amount (dollars) * | Total annual opportunity cost (dollars) **
Internet DD | 683,397 | 1 | 10 | 113,900 | *$10.95 | **$1,247,205
Non-Electronic Services (FO, 800#-ePath, SSI Claims System, SPS, MACADE, POS, RPS) | 2,557,048 | 1 | 12 | 511,410 | *10.95 | **5,599,940
Direct Deposit Fraud Indicator | 30,531 | 1 | 2 | 1,018 | *10.95 | **11,147
Totals | 3,270,976 |  |  | 626,328 |  | ** 6,858,292
* We based this figure on the average DI payments based on SSA's current FY 2021 data (https://www.ssa.gov/legislation/2021FactSheet.pdf).
** This figure does not represent actual costs that SSA is imposing on claimants of Social Security payments to complete this application; rather, these are theoretical opportunity costs for the additional time respondents will spend to complete the application. There is no actual charge to respondents to complete the application.

11. International Direct Deposit—31 CFR 210—0960-0686. SSA's International Direct Deposit (IDD) Program allows beneficiaries living abroad to receive their payments via direct deposit to an account at a financial institution outside the United States. SSA uses Form SSA-1199-(Country) to enroll Title II beneficiaries residing abroad in IDD, and to obtain the direct deposit information for foreign accounts. Routing account number information varies slightly for each foreign country, so we use a variation of the Treasury Department's Form SF-1199A for each country. The respondents are Social Security beneficiaries residing abroad who want SSA to deposit their Title II benefit payments directly to a foreign financial institution.

Type of Request: Revision of an OMB-approved information collection.

Modality of completion | Number of respondents | Frequency of response | Average burden per response (minutes) | Estimated total annual burden (hours) | Average theoretical hourly cost amount (dollars) * | Total annual opportunity cost (dollars) **
SSA-1199-(Country) | 449,274 | 1 | 5 | 37,440 | *$27.07 | **$1,013,501
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

12. Request for Reinstatement (Title XVI)—20 CFR 416.999-416.999d—0960-0744. SSA uses Form SSA-372 to: (1) Inform previously entitled beneficiaries of the expedited reinstatement (EXR) requirements of SSI payments under Title XVI of the Act; and (2) document their requests for EXR. SSA requires this application for reinstatement of benefits for respondents to obtain SSI disability payments for EXR. When an SSA claims representative learns of individuals whose medical conditions no longer permit them to perform substantial gainful activity as defined in the Act, the claims representative gives the form to the previously entitled individuals (or mails it to those who request EXR over the phone). SSA employees collect this information whenever an individual files for EXR benefits. The respondents are applicants for EXR of SSI disability payments.

Type of Request: Revision of an OMB approved information collection.

Modality of completion | Number of respondents | Frequency of response | Average burden per response (minutes) | Estimated total annual burden (hours) | Average theoretical hourly cost amount (dollars)* | Average wait time in field office (minutes) ** | Total annual opportunity cost (dollars) ***
SSA-372 | 2,000 | 1 | 5 | 167 | *$10.95 | **24 | ***$10,589
* We based this figure on the average DI payments based on SSA's current FY 2021 data (https://www.ssa.gov/legislation/2021FactSheet.pdf).
** We based this figure on the average FY 2022 wait time for teleservice centers, based on SSA's current management information data.
*** This figure does not represent actual costs that SSA is imposing on claimants of Social Security payments to complete this application; rather, these are theoretical opportunity costs for the additional time respondents will spend to complete the application. There is no actual charge to respondents to complete the application.

Dated: March 4, 2022.
Naomi Sipple,
Reports Clearance Officer, Social Security Administration.

[FR Doc. 2022-05026 Filed 3-9-22; 8:45 am]

BILLING CODE 4191-02-P